DEPARTMENT OF JUSTICE

Notice of Lodging of Consent Decree Under the Comprehensive Environmental Response, Compensation and Liability Act

Notice is hereby given that on March 14, 2002, a proposed Consent Decree in United States v. T H Agriculture & Nutrition, L.L.C., Civil Action No. 1:02-CV-38-2, was lodged with the United States District Court for the Middle District of Georgia.

In this action the United States sought injunctive relief in order to remedy conditions in connection with the release and threatened release of hazardous substances into the environment at and from Operable Unit Number 1 of the T.H. Agriculture and Nutrition Superfund Site (“Site”) in Albany, Dougherty County, Georgia. The United States also sought to recover unreimbursed costs incurred and to be incurred for response activities undertaken and to be undertaken at Operable Unit Number 1 of the Site. The Site consists of two former pesticide formulation facilities. The proposed Consent Decree settles claims against defendant T H Agriculture & Nutrition, L.L.C. (“THAN”) pursuant to Sections 106 and 107 of the Comprehensive Environmental Response, Compensation, and Liability Act (“CERCLA”), 42 U.S.C. 9606, 9607, with respect to injunctive relief and response costs sought. The proposed Consent Decree requires the Defendant, THAN, to implement the remedy selected by the Environmental Protection Agency (“EPA”) for Operable Unit Number 1. The proposed Consent Decree provides for the defendant to file a motion to dismiss with prejudice its appeal from a United States District Court decision denying its claim for reimbursement of response costs under CERCLA Section 106(b)(2), 42 U.S.C. 9606(b)(2), currently on appeal before the United States Court of Appeals for the Eleventh Circuit as Appeal No. 00-12854-BB, T H Agriculture & Nutrition v. EPA, et al. The proposed Consent Decree provides that the defendant shall not be required to pay for the United States' past or future response costs at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. T H Agriculture & Nutrition, L.L.C., D.J. Ref. 90-11-3-1426/2.

The Consent Decree may be examined at the Office of the United States Attorney, Middle District of Georgia, 433 Cherry Street, 5th Floor, Macon, Georgia 31202, and at U.S. EPA Region IV, 61 Forsyth Street, Atlanta, Georgia 30303. A copy of the Consent Decree may also be obtained by mail from the Consent Decree Library, P.O. Box 7611, U.S. Department of Justice, Washington, DC 20044-7611. In requesting a copy, please enclose a check in the amount of $65.50 (25 cents per page reproduction cost) payable to the Consent Decree Library. In requesting a copy exclusive of appendices, please enclose a check in the amount of $11.75 (25 cents per page reproduction cost) payable to the Consent Decree Library.

Ellen M. Mahan,
Assistant Section Chief, Environmental Enforcement Section, Environment and Natural Resources Division.

[FR Doc. 02-8363 Filed 4-5-02; 8:45 am]

BILLING CODE 4410-15-M